DEPARTMENT OF THE INTERIOR

Bureau of Land Management

[LLMTL060-L16100000-DQ0000]

Notice of Availability of the Lewistown Proposed Resource Management Plan and Associated Final Environmental Impact Statement, Montana

AGENCY: Bureau of Land Management, Interior.

ACTION: Notice of availability.

SUMMARY: In accordance with the National Environmental Policy Act of 1969 (NEPA), as amended, and the Federal Land Policy and Management Act of 1976 (FLPMA), as amended, the Bureau of Land Management (BLM) Lewistown and Butte Field Offices have prepared a Proposed Resource Management Plan (RMP) with an associated Final Environmental Impact Statement (EIS) for BLM public lands and resources managed by the Lewistown Field Office, and a portion of the Butte Field Office in northern Lewis and Clark County, Montana, and by this notice are announcing the opening of the protest period.

DATES: BLM planning regulations state that any person who meets the conditions as described in the regulations may protest the BLM's Proposed RMP. To ensure that protests will be considered, the BLM must receive any protests on the Proposed RMP on or before the 30th day following the date the Environmental Protection Agency publishes its Notice of Availability of the Final EIS in the Federal Register.

ADDRESSES: Copies of the Proposed RMP and Final EIS are available at the Lewistown Field Office, 920 NE Main Street, Lewistown, MT 59457, or may be viewed online at: https://go.usa.gov/xUPsP.

All protests on the Proposed RMP must be in writing and submitted by any of the following methods:

Website: https://go.usa.gov/xUPsP.

Regular Mail: BLM Director (210), Attention: Protest Coordinator, P.O. Box 71383, Washington, DC 20024-1383.

Overnight Delivery: BLM Director (210), Attention: Protest Coordinator, 20 M Street SE, Room 2134LM, Washington, DC 20003.

FOR FURTHER INFORMATION CONTACT: Dan Brunkhorst, RMP Project Manager, Lewistown Field Office, at telephone: (406) 538-1981, and at the mailing address and website listed earlier. Persons who use a telecommunications device for the deaf (TDD) may call the Federal Relay Service (FRS) at 1-800-877-8339 to contact Mr. Brunkhorst during normal business hours. The FRS is available 24 hours a day, 7 days a week, to leave a message or question. You will receive a reply during normal business hours.

SUPPLEMENTARY INFORMATION: The Lewistown Proposed RMP provides a single, comprehensive land use plan that guides management of BLM lands on approximately 651,200 acres of BLM-managed public lands and 1,196,800 acres of Federal mineral estate in central Montana in Cascade, Fergus, Judith Basin, Meagher, Petroleum, Pondera, Teton, Chouteau, and Lewis and Clark counties. These lands and minerals are managed by two BLM offices located in Lewistown and Butte, Montana. The RMP will fulfill the needs and obligations set forth by NEPA, FLPMA, and BLM management policies. The RMP will reflect the changing needs of the planning area over the next several decades, and will replace the current Headwaters and Judith RMPs, as amended, that were developed in 1984 and 1994, respectively.

The Proposed RMP/Final EIS evaluates four alternatives in detail. Alternative A is the No Action Alternative, which is a continuation of current management direction in the existing Judith and Headwaters RMPs.

Alternative B emphasizes managing habitats for priority plant, wildlife, and fish species while providing modest development of resource uses. Alternative B emphasizes hunting, fishing, and other recreation through Backcountry Conservation Areas (BCAs) and management of lands with wilderness characteristics.

The agency Proposed Plan alternative is Alternative C with a few modifications, including the addition of two BCAs and two Areas of Critical Environmental Concerns (ACECs), and adjustments to oil and gas stipulations to be consistent with surrounding BLM field offices. Alternative C emphasizes resource uses on BLM-administered lands and mineral estate targeting social and economic outcomes while protecting land health. The Proposed Plan employs fewer special management designations for resource-use objectives, but does emphasize wildlife-dependent recreation through the allocation of two BCAs.

Alternative D emphasizes resource uses and a variety of management prescriptions (e.g., recreation management areas, ACECs, Visual Resource Management, etc.) to address the use and conservation of natural and cultural resources, while sustaining and enhancing forest and range health across the landscape.

The Lewistown Draft RMP/Draft EIS public comment period began on May 17, 2019, and ended on August 15, 2019. The BLM held three public open house meetings in Winnett, Lewistown, and Great Falls, Montana, during the public comment period on the Draft RMP/Draft EIS. The BLM considered and incorporated in the proposed plan, as appropriate, comments received from the public, cooperating agencies and internal BLM review.

Before including your address, phone number, email address, or other personally identifiable information in your protest, be aware that your entire protest—including your personally identifiable information—may be made publicly available at any time. While you can ask us in your protest to withhold your personal identifying information from public review, we cannot guarantee that we will be able to do so.

(Authority: 40 CFR 1506.6 and 43 CFR 1610.2)

Theresa M. Hanley,
Acting State Director.

[FR Doc. 2020-02881 Filed 2-13-20; 8:45 am]

BILLING CODE 4310-DN-P